DEPARTMENT OF DEFENSE

Department of the Navy

Notice of Availability of Government-Owned Invention; Available for Licensing

AGENCY: Department of the Navy, DOD.

ACTION: Notice.

SUMMARY: The Department of the Navy hereby gives notice of the general availability of exclusive or partially exclusive licenses under the following pending patent.

U.S. Patent application Serial Number 60/525,842 entitled “Bowel Preparation for Virtual Colonoscopy” filed 1 December 2003. The present invention relates to a unique approach to colonic preparation for virtual colonoscopy (VC) examination involving a specific combination of sodium phosphate, barium sulfate, and water-soluble iodinated contrast, each taken orally in two evenly divided doses. This improved colonic preparation results in VC that are comparable to the accepted “gold standard” conventional colonoscopy for detecting clinically relevant polyps.

DATES: Applications for an exclusive or partially exclusive license may be submitted at any time from the date of this notice.

ADDRESSES: Submit applications to the Office of Technology Transfer, Naval Medical Research Center, 503 Robert Grant Ave, Silver Spring, MD 20910-7500.

FOR FURTHER INFORMATION CONTACT: Dr. Charles Schlagel, Director, Office of Technology Transfer, Naval Medical Research Center, 503 Robert Grant Ave, Silver Spring, MD 20910-7500, telephone (301) 319-7428 or e-mail at: schlagelc@nmrc.navy.mil

SUPPLEMENTARY INFORMATION: Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Dated: February 3, 2004.
J.T. Baltimore,
Lieutenant Commander, Judge Advocate General's Corps, U.S. Navy, Alternate Federal Register Liaison Officer.

[FR Doc. 04-3158 Filed 2-12-04; 8:45 am]

BILLING CODE 3810-FF-P